DEPARTMENT OF ENERGY

Federal Energy Regulatory Commission

[Project No. 2494-028]

Puget Sound Energy, Inc.; Notice of Meeting To Discuss Update on White River Collaborative Settlement Process

June 16, 2003.

a. Date and Time of Meeting: June 23, 2003; 1:30 p.m. eastern daylight time.

b. Place: Federal Energy Regulatory Commission, 888 First Street, NE., Washington, DC 20426.

c. FERC Contact: Mike Henry at mike.henry@ferc.gov or (503) 552-2762.

d. Purpose of Meeting: Puget Sound Energy, Inc., has requested a meeting with Commission staff to discuss (1) status of National Marine Fisheries Service's Biological Opinion regarding Puget Sound Chinook salmon; (2) status of agreement with Lake Tapps Homeowners to address concerns regarding future reservoir operations; (3) status of efforts to coordinate with the U.S. Army Corps of Engineers, and the efforts of the Corps to address fish passage for White River and Mud Mountain Dam; (4) schedule for completing settlement agreement; (5) request for a 6-month extension of the stay to the license order and related proceedings; and (6) other issues that may be of interest or concern to parties to the proceeding for the White River Project (P-2494-028). The project is located on the White River, east of Seattle, Washington.

e. Proposed Agenda: (1) Introduction of participants, (2) Puget presentation on purpose of meeting, (3) discussion, and (4) meeting wrap up.

f. All local, State, and Federal agencies, Indian tribes, and other interested parties are invited to participate. Please call Mike Henry at (503) 552-2762 by June 19, 2003, for instructions on how to participate in person or by phone.

Magalie R. Salas,
Secretary.

[FR Doc. 03-15754 Filed 6-20-03; 8:45 am]

BILLING CODE 6717-01-P